INTER-AMERICAN FOUNDATION

Sunshine Act; Board Meeting

TIME AND DATE: December 10, 2012. 9:00 a.m.-12:45 p.m.

PLACE: Woodrow Wilson International Center for Scholars, One Woodrow Wilson Plaza, 1300 Pennsylvania Ave. NW., 6th Floor Boardroom, Washington, DC 20004.

STATUS: Open session.

MATTERS TO BE CONSIDERED:

Approval of the Minutes of the September 24, 2012, Meeting of the Board of Directors

Presentation of Resolution Honoring Service of Kay Arnold

Carrying Out the IAF's Strategic Plan

Management Report

Setting Next Board Meetings

PORTIONS TO BE OPEN TO THE PUBLIC:

Approval of the Minutes of the September 24, 2012, Meeting of the Board of Directors

Presentation of Resolution Honoring Service of Kay Arnold

Carrying Out the IAF's Strategic Plan

Management Report

Setting Next Board Meetings

FOR FURTHER INFORMATION CONTACT: Paul Zimmerman, General Counsel, 202.683.7118.

Paul Zimmerman,
General Counsel.

[FR Doc. 2012-29195 Filed 11-29-12; 11:15 am]

BILLING CODE 7025-01-P